DEPARTMENT OF THE INTERIOR

Bureau of Land Management

[LLNMP02000 L14400000.EU000]

Notice of Realty Action: Modified Competitive Sealed Bid Sale of Public Land (NMNM 90300), Eddy County, New Mexico

AGENCY: Bureau of Land Management, Interior.

ACTION: Notice of Realty Action.

SUMMARY: The Bureau of Land Management (BLM) proposes to offer, by modified-competitive, sealed-bid sale, public lands totaling 2,486.38 acres in Eddy County, New Mexico, at not less than the appraised fair market value (FMV) of $298,000. The sale will be subject to the applicable provisions of Section 203 of the Federal Land Policy and Management Act of 1976 (FLPMA).

DATES: Interested parties may submit written comments regarding the sale and the environmental assessment (EA) until October 26, 2015. Sealed bids may be mailed or delivered to the BLM Carlsbad Field Office, at the address below, beginning on October 26, 2015. Sealed bids must be received no later than 4:30 p.m., Mountain Time, November 9, 2015 in accordance with the sale procedures. The BLM will open the sealed bids on November 10, 2015 at the BLM Carlsbad Field Office.

ADDRESSES: Mail written comments to the BLM Carlsbad Field Manager, Carlsbad Field Office, 620 East Greene, Carlsbad, NM 88220. The modified-competitive sale will be held at the BLM Carlsbad Field Office.

FOR FURTHER INFORMATION CONTACT: Tammie Hochstein, Realty Specialist, at the address above, by telephone at 575-234-5902, or by email at thochste@blm.gov. Persons who use a telecommunications device for the deaf (TDD) may call the Federal Information Relay Service (FIRS) at 1-800-877-8339 to contact the above individual during normal business hours. The FIRS is available 24 hours a day, 7 days a week, to leave a message or question with the above listed individual. You will receive a reply during normal business hours.

SUPPLEMENTARY INFORMATION: The land is hereby classified for disposal in accordance with Executive Order No. 6910, and with Section 7 of the Taylor Grazing Act, 43 U.S.C. 315F. The lands proposed for disposal are described as follows:

New Mexico Principal Meridian, New Mexico

T. 17 S., R. 25 E.,

Sec. 31, Lots 1 thru 4, W½NE¼, SE¼NE¼, E½NW¼, E½SW¼, and SE¼.

T. 18 S., R. 24 E.,

Sec. 1,

T. 18 S., R. 25 E.,

Sec. 5, Lots 1 thru 3, SW¼NE¼, SE¼NE¼, SE¼NW¼, SW¼, and SE¼;

Sec. 7, Lot 1, N½NE¼, SW¼NE¼, and NE¼NW¼;

Sec. 8, N½ and SE¼.

The area described aggregates 2,486.38 acres.

The sale parcel offered for the proposed modified-competitive sale is suitable for disposal, this action is in conformance with the 1988 Carlsbad Resource Management Plan, and Amendment dated 1997.

The locatable, salable, and leasable mineral rights will be reserved by the United States. In accordance with 43 CFR 4110.4-2(b), which states that when public lands are disposed of or devoted to a public purpose which precludes livestock grazing, the permittee shall be given 2 years prior notification before his or her grazing permit or permitted use may be canceled or reduced.

Additionally, 43 CFR 4110.4-2(b) provides an opportunity for the grazing permittee to waive the 2-year notification period. The grazing permittee for this land sale has agreed to the sale and signed the waiver/relinquishment agreement.

The use of the modified-competitive sale method is consistent with 43 CFR 2711.3-2(a)(1)(i) because the authorized officer has determined it is necessary in order to assure equitable distribution of land among purchasers or to recognize equitable considerations or public policies. Under the modified competitive bidding procedure, a designated bidder is offered the highest bid. Refusal or failure to meet the highest bid shall constitute a waiver of such bidding provisions. Failure to accept an offer to purchase the offered lands within the time specified by the authorized officer shall constitute a waiver of his preference consideration. The authorized officer has identified Bill Kennedy as the designated bidder for this parcel.

The sale parcel, NMNM 90300, is being analyzed in Environmental Assessment Number DOI-BLM-NM-P020-2014-1493-EA. Upon publication of this notice, the EA is available at the BLM Carlsbad Field Office for public review and comments. Only written comments will be considered properly filed.

Any adverse comments regarding the sale will be reviewed by the BLM New Mexico State Director or other authorized official of the Department of Interior, who may sustain, vacate, or modify this realty action in whole or in part.

Before including your address, phone number, email address, or other personal identifying information, you should be aware that your entire comment, including your personal identifying information may be made publicly available at any time. While you can ask us in your comment to withhold your personal identifying information from public review, we cannot guarantee that we will be able to do so.

Information concerning the sale, appraisal, reservations, sale procedures and conditions, Comprehensive Environmental Response Compensation and Liability Act (CERCLA), map delineating the sale parcel, mineral potential report, EA, and other environmental documents will be available for review during business hours, from 7:45 a.m. to 4:30 p.m., Mountain Time, Monday through Friday at the BLM Carlsbad Field Office except during federally recognized holidays.

Publication of this notice in the Federal Register segregates the subject lands from all other forms of appropriation under the public land laws, including the general mining laws and leasing under the mineral leasing laws, except sale under FLPMA. The segregation will terminate: (i) Upon issuance of a patent or other document of conveyance to such lands; (ii) Upon publication in the Federal Register of a termination of the segregation; or (iii) At the end of 2 years from the date of this publication in the Federal Register, whichever occurs first. On publication of this notice and until completion of the sale, the BLM is no longer accepting land-use applications affecting the sale parcel. However, land-use applications may be considered after completion of the sale if the parcel is not sold. The parcel may be subject to land-use applications received prior to publication of this notice if processing the application would have no adverse effect on the marketability of title or the FMV of the sale parcel.

The parcel is subject to limitations prescribed by law and regulation and, prior to patent issuance, a holder of any right-of-way within the parcel may be given the opportunity to amend the right-of-way for conversion to a new term, including perpetuity, if applicable, or conversion to an easement. In accordance with regulation at 43 CFR 2807.15(b), the BLM notified the valid existing right-of-way holders by letter of their ability to convert their rights-of-way to perpetual rights-of-way or easements. None of the holders requested conversion of their current authorizations, so the BLM will continue to administer their rights-of-way as authorized after the sale.

Terms and Conditions: All minerals for the parcel will be reserved to the United States in accordance with the BLM's approved Mineral Potential Report, dated June 6, 1996.

The following rights, reservations, and terms and conditions will appear on the conveyance document for these parcels:

1. A reservation for all mineral deposits in the land so patented, and to it or persons authorized by it, the right to enter the land and prospect for; mine; and remove such deposits from the same under applicable laws and such regulations as the Secretary of the Interior may prescribe shall be reserved to the United States;

2. A reservation for any right-of-way thereon for ditches and canals constructed by the authority of the United States, Reservation in Patent Right of Way for Ditches or Canals Act of August 30, 1890 (26 Stat. 291; 43 U.S.C. 945), including but not necessarily limited to the following rights of way:

NM-72756, NM-77814, NM-60190, NM-93139, NM-121560, NM-115291, NM-106778, NM-40925, NM-40738, NM-29305, NM-121143, NM-121142, NM-33339, NM-33338, NM-32422, NM-68029, NM-114258, NM-113331, NM-72654, NM-72655, NM-24321, NM-03604, NM-09542A, NM-11461, NM-15664, NM-71846, NM-71987, NM-71999, NM-72087, NM-72380, NM-72535, NM-343045, NM-440087, NM-471842, NM-487738, NM-0-196959.

3. The parcel is subject to valid existing rights, including but not limited to, rights-of-way for roads, public utilities, and flood control improvements;

4. An appropriate indemnification clause protecting the United States from claims arising out of the patentee's use, occupancy, or occupation on the patented lands. Pursuant to the requirements established by Section 120(h) of the, 42 U.S.C. 9620(h) CERCLA, as amended, notice is hereby given that the above-described lands have been examined and no evidence was found to indicate that any hazardous substances have been stored for 1 year or more, nor had any hazardous substances been disposed of or released on the subject property.

No representation, warranty, or covenant of any kind, express or implied, is given or made by the United States as to access to or from any parcel of land, the title, whether or to what extent the land may be developed, its physical condition, present or potential uses, or any other circumstance or condition. The conveyance of the sale parcel will not be on a contingency basis.

Sale Procedures: The designated bidder must appoint an authorized representative for this sale by submitting in writing a notarized document that identifies the level of capacity given to the authorized representative. The authorized representative of the designated bidder must be present at the sale. If the authorized representative does not submit the highest bid, the authorized representative will have the opportunity to meet and accept the highest bid as the purchase price of the parcel. Should the authorized representative refuse to meet the high bid, the party submitting the highest bid will be declared the successful bidder in accordance with 43 CFR 2711.3-2(c). Consistent with 43 CFR 2711.3-2 (e), acceptance or rejection of any offer to purchase shall be in accordance with the procedures set forth in 43 CFR 2711.3-1(f) and (g).

Sealed bids will be presented for the sale parcel. Sealed-bid envelopes must be clearly marked on the front lower left corner with: “SEALED BID BLM LAND SALE” and the identification number for the sale parcel “BLM SERIAL NUMBER NMNM 90300.” Each sealed bid shall be accompanied by a cashier's check, certified check, or U.S. postal money order, and made payable in U.S. dollars to “Department of the Interior—Bureau of Land Management” for not less than 20 percent of the amount bid. Personal or company checks will not be accepted. The sealed-bid envelope shall include a completed and signed Certificate of Eligibility.

Sealed bids will be opened and recorded to determine the high bidder on November 10, 2015, 10:00 a.m., Mountain Time at the BLM Carlsbad Field Office. The highest bidder among the qualified bids received for the sale will be announced under 43 CFR 2711.3-1(d). Following the end of the sale, all bid deposits will be returned to the unsuccessful bidders, if present, or by certified mail. If the winning bidder defaults on the parcel, the BLM may retain the bid deposit and cancel the sale. If the high bidder is unable to consummate the transaction for any reason, the BLM, in its sole discretion, may consider the second-highest bid and offer the sale to the person who submitted this bid. The BLM will send the successful bidder a high-bidder letter with detailed information for full payment.

Pursuant to regulation at 43 CFR 2711.2, bidders must be (1) United States citizens, 18 years of age or older; (2) A corporation subject to the laws of any State or of the United States; (3) An entity including, but not limited to, associations or partnerships capable of acquiring and owning real property, or interests therein, under the laws of the State of New Mexico; or (4) A State, State instrumentality, or political subdivision authorized to hold real property. United States citizenship is evidenced by presenting a birth certificate, passport, or naturalization papers. Failure to submit the above requested documents to the BLM within 30 days from receipt of the high-bidder letter shall result in cancellation of the sale and forfeiture of the bid deposit.

Within 30 days of the bid opening, the BLM will, in writing, either accept or reject all bids received. No contractual, or other rights against the United States, may accrue until the BLM officially accepts the offer to purchase and the full bid price is paid. Unless other satisfactory arrangements are approved in advance by a BLM authorized officer, conveyance of title will be through the use of escrow. Designation of the escrow agent shall be through mutual agreement between the BLM and the prospective patentee, and costs of escrow shall be borne by the prospective patentee.

Requests for all escrow instructions must be received by the BLM Carlsbad Field Office prior to 30 days before the prospective patentee has scheduled closing date. No exceptions will be made.

No contractual or other rights against the United States may accrue until the BLM officially accepts the offer to purchase, and the full bid price is submitted by the 180th day following the sale.

All name changes and supporting documentation must be received at the BLM Carlsbad Field Office 30 days from the date on the high-bidder letter by 4:30 p.m., Mountain Time. Name changes will not be accepted after that date. To submit a name change, the apparent high bidder must submit the name change on the Certificate of Eligibility to the BLM Carlsbad Field Office in writing. Certificates of Eligibility are available at the BLM Carlsbad Field Office.

The remainder of the full bid price for the sale parcel must be received no later than 4:30 p.m. Mountain Time, within 180th day following the day of the sale. Payment must be submitted in the form of a, certified check, postal money order, bank draft or cashier's check or made available by electronic fund transfer made payable in U.S. dollars to the “Department of the Interior—Bureau of Land Management.” The BLM will not accept personal or company checks.

Arrangements for electronic fund transfer to BLM for payment of the balance due must be made a minimum of two weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the remainder of the bid price after the 180th day of the sale date.

The BLM will not sign any documents related to 1031 Exchange transactions. In accordance with 43 CFR 2711.3-1(f), the BLM may accept or reject any or all offers to purchase, or withdraw any parcel of land or interest therein from sale, if, in the opinion of a BLM authorized officer, consummation of the sale would be inconsistent with any law, or for other reasons.

The parcel, if not sold by modified-competitive, sealed-bid sale, may be identified for sale later without further legal notice.

It is the bidder's responsibility to be aware of all applicable Federal, State, and local government laws, regulations and policies that may affect the subject lands, including any required dedication of lands for public uses. It is the bidder's responsibility to be aware of existing or prospective uses of nearby properties. When conveyed out of Federal ownership, the lands will be subject to any applicable laws, regulations, and policies of the applicable local government for proposed future uses. It will be the responsibility of the purchaser to be aware of those laws, regulations, and policies, and to seek any required local approvals for future uses. Bidders should also make themselves aware of any Federal or State law or regulation that may affect the future use of the property. Any land lacking access from a public road or highway will be conveyed as such, and future access acquisition will be the responsibility of the buyer.

Authority: 43 CFR 2710 and 2711.1-2 (a) and (c)

James K. Stovall,
Acting Deputy State Director, Lands and Resources.

[FR Doc. 2015-22797 Filed 9-9-15; 8:45 am]

BILLING CODE 4310-FB-P